DEPARTMENT OF HOMELAND SECURITY

Federal Emergency Management Agency

[Docket ID FEMA-2017-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Roy E. Wright,
Deputy Associate Administrator for Insurance and Mitigation, Department of Homeland Security, Federal Emergency Management Agency.

State and county | Location and case No. | Chief executive officer of community | Community map repository | Date of modification | Community No.
Colorado:
Arapahoe (FEMA Docket No.: B-1705) | City of Centennial (16-08-1082P) | The Honorable Cathy Noon, Mayor, City of Centennial, 13133 East Arapahoe Road, Centennial, CO 80112 | Southeast Metro Stormwater Authority, 7437 South Fairplay Street, Centennial, CO 80112 | May 19, 2017 | 080315
Boulder (FEMA Docket No.: B-1705) | City of Boulder (16-08-0675P) | The Honorable Suzanne Jones, Mayor, City of Boulder, P.O. Box 791, Boulder, CO 80306 | Planning and Development Services Department, 1739 Broadway Street, Boulder, CO 80302 | May 17, 2017 | 080024
Teller (FEMA Docket No.: B-1705) | City of Woodland Park (16-08-1217P) | The Honorable Neil Levy, Mayor, City of Woodland Park, P.O. Box 9007, Woodland Park, CO 80866 | Public Works Department, 220 W. South Avenue, Woodland Park, CO 80866 | May 18, 2017 | 080175
Teller (FEMA Docket No.: B-1705) | Unincorporated areas of Teller County (16-08-1217P) | The Honorable Dave Paul, Chairman, Teller County Board of Commissioners, P.O. Box 959, Cripple Creek, CO 80813 | Teller County Administrative Department, 112 North A Street, Cripple Creek, CO 80813 | May 18, 2017 | 080173
Florida:
Bay (FEMA Docket No.: B-1705) | City of Callaway (16-04-6043P) | The Honorable Bob Pelletier, Mayor, City of Callaway, 6601 East Highway 22, Callaway, FL 32404 | Public Works Department, 324 South Berthe Avenue, Callaway, FL 32404 | Jun 1, 2017 | 120005
Bay (FEMA Docket No.: B-1705) | Unincorporated areas of Bay County (16-04-6043P) | The Honorable William T. Dozier, Chairman, Bay County Board of Commissioners, 840 West 11th Street, Panama City, FL 32401 | Bay County Planning and Zoning Division, 840 West 11th Street, Panama City, FL 32401 | Jun 1, 2017 | 120004
Broward (FEMA Docket No.: B-1705) | City of Plantation (16-04-7674P) | The Honorable Diane Veltri Bendekovic, Mayor, City of Plantation, 400 Northwest 73rd Avenue, Plantation, FL 33317 | Engineering Department, 401 Northwest 70th Terrace, Plantation, FL 33317 | May 25, 2017 | 120054
Collier (FEMA Docket No.: B-1705) | City of Marco Island (17-04-0130P) | The Honorable Larry Honig, Chairman, City of Marco Island Council, 50 Bald Eagle Drive, Marco Island, FL 34145 | City Hall, 50 Bald Eagle Drive, Marco Island, FL 34145 | May 12, 2017 | 120426
Lee (FEMA Docket No.: B-1705) | Town of Fort Myers Beach (16-04-7620P) | The Honorable Dennis C. Boback, Mayor, Town of Fort Myers Beach, 2525 Estero Boulevard, Fort Myers Beach, FL 33931 | Community Development Department, 2525 Estero Boulevard, Fort Myers Beach, FL 33931 | May 25, 2017 | 120673
Lee (FEMA Docket No.: B-1705) | Town of Fort Myers Beach (17-04-0306P) | The Honorable Dennis C. Boback, Mayor, Town of Fort Myers Beach, 2525 Estero Boulevard, Fort Myers Beach, FL 33931 | Community Development Department, 2525 Estero Boulevard, Fort Myers Beach, FL 33931 | May 25, 2017 | 120673
Lee (FEMA Docket No.: B-1705) | City of Sanibel (16-04-7280P) | The Honorable Kevin Ruane, Mayor, City of Sanibel, 800 Dunlop Road, Sanibel, FL 33957 | Planning and Code Enforcement Department, 800 Dunlop Road, Sanibel, FL 33957 | May 12, 2017 | 120402
Monroe (FEMA Docket No.: B-1705) | Unincorporated areas of Monroe County (16-04-7184P) | The Honorable George Neugent, Mayor, Monroe County Board of Commissioners, 25 Ships Way, Big Pine Key, FL 33043 | Monroe County Building Department, 2798 Overseas Highway, Suite 300, Marathon, FL 33050 | May 2, 2017 | 125129
Monroe (FEMA Docket No.: B-1705) | Unincorporated areas of Monroe County (17-04-0522P) | The Honorable George Neugent, Mayor, Monroe County Board of Commissioners, 25 Ships Way, Big Pine Key, FL 33043 | Monroe County Building Department, 2798 Overseas Highway, Suite 300, Marathon, FL 33050 | May 30, 2017 | 125129
Pinellas (FEMA Docket No.: B-1705) | City of Clearwater (17-04-0745P) | The Honorable George N. Cretekos, Mayor, City of Clearwater, P.O. Box 4748, Clearwater, FL 33758 | Engineering Department, 100 South Myrtle Avenue, Suite 220, Clearwater, FL 33756 | May 25, 2017 | 125096
St. Johns (FEMA Docket No.: B-1705) | Unincorporated areas of St. Johns County (16-04-7407P) | The Honorable Jeb Smith, Chairman, St. Johns County Board of Commissioners, 500 San Sebastian View, St. Augustine, FL 32084 | St. Johns County Building Services Department, 4040 Lewis Speedway, St. Augustine, FL 32084 | May 30, 2017 | 125147
Seminole (FEMA Docket No.: B-1705) | City of Casselberry (16-04-3548P) | The Honorable Charlene Glancy, Mayor, City of Casselberry, 95 Triplet Lake Drive, Casselberry, FL 32707 | Public Works Department, 95 Triplet Lake Drive, Casselberry, FL 32707 | May 22, 2017 | 120291
Georgia:
Bryan (FEMA Docket No.: B-1705) | Unincorporated areas of Bryan County (16-04-6054P) | The Honorable Jimmy Burnsed, Chairman, Bryan County Board of Commissioners, P.O. Box 430, Pembroke, GA 31321 | Bryan County Planning and Zoning Department, 66 Captain Matthew Freeman Drive, Suite 201, Richmond Hill, GA 31324 | May 5, 2017 | 130016
Fayette (FEMA Docket No.: B-1705) | City of Peachtree City (16-04-5178P) | The Honorable Vanessa Fleisch, Mayor, City of Peachtree City, 151 Willowbend Road, Peachtree City, GA 30269 | Engineering Department, 151 Willowbend Road, Peachtree City, GA 30269 | Apr 13, 2017 | 130078
Fayette (FEMA Docket No.: B-1705) | Unincorporated areas of Fayette County (16-04-5178P) | The Honorable Eric Maxwell, Chairman, Fayette County Board of Commissioners, 140 Stonewall Avenue West, Suite 100, Fayetteville, GA 30214 | Fayette County Environmental Management Department, 140 Stonewall Avenue West, Suite 203, Fayetteville, GA 30214 | Apr 13, 2017 | 130432
Massachusetts:
Essex (FEMA Docket No.: B-1705) | City of Beverly (16-01-2010P) | The Honorable Michael P. Cahill, Mayor, City of Beverly, 191 Cabot Street, Beverly, MA 01915 | Public Services Department, 191 Cabot Street, Beverly, MA 01915 | May 5, 2017 | 250077
Essex (FEMA Docket No.: B-1705) | City of Beverly (17-01-0046P) | The Honorable Michael P. Cahill, Mayor, City of Beverly, 191 Cabot Street, Beverly, MA 01915 | Public Services Department, 191 Cabot Street, Beverly, MA 01915 | May 5, 2017 | 250077
Plymouth (FEMA Docket No.: B-1705) | Town of Marion (17-01-0065P) | The Honorable Jonathan E. Dickerson, Chairman, Town of Marion Board of Selectmen, 2 Spring Street, Marion, MA 02738 | Town Hall, 2 Spring Street, Marion, MA 02738 | May 5, 2017 | 255213
North Carolina:
Onslow (FEMA Docket No.: B-1705) | Town of North Topsail Beach (17-04-0504P) | The Honorable Fred J. Burns, Mayor, Town of North Topsail Beach, 2008 Loggerhead Court, North Topsail Beach, NC 28460 | Planning Department, 2008 Loggerhead Court, North Topsail Beach, NC 28460 | May 4, 2017 | 370466
Union (FEMA Docket No.: B-1705) | Unincorporated areas of Union County (16-04-5693P) | The Honorable Frank Aikmus, Chairman, Union County Board of Commissioners, 500 North Main Street, Room 921, Monroe, NC 28112 | Union County Planning Department, 500 North Main Street, Room 70, Monroe, NC 28112 | May 1, 2017 | 370234
Wake (FEMA Docket No.: B-1705) | Town of Holly Springs (16-04-7667P) | The Honorable Richard G. Sears, Mayor, Town of Holly Springs, P.O. Box 8, Holly Springs, NC 27540 | Engineering Department, 128 South Main Street, Holly Springs, NC 27540 | May 25, 2017 | 370403
Ohio:
Greene (FEMA Docket No.: B-1705) | City of Fairborn (16-05-6238P) | Mr. Pete Bales, CPRP, Interim Manager, City of Fairborn, 44 West Hebble Avenue, Fairborn, OH 45324 | Government Center, 44 West Hebble Avenue, Fairborn, OH 45324 | May 19, 2017 | 390195
Rhode Island:
Providence (FEMA Docket No.: B-1705) | City of Cranston (16-01-1503P) | The Honorable Allan W. Fung, Mayor, City of Cranston, 869 Park Avenue, Cranston, RI 02910 | City Hall, 869 Park Avenue, Cranston, RI 02910 | Apr 21, 2017 | 445396
South Carolina:
Richland (FEMA Docket No.: B-1700) | City of Columbia (14-04-8075P) | The Honorable Stephen K. Benjamin, Mayor, City of Columbia, 1737 Main Street, Columbia, SC 29201 | City Hall, 1737 Main Street, Columbia, SC 29201 | Aug 10, 2015 | 450172
Richland (FEMA Docket No.: B-1700) | Unincorporated areas of Richland County (14-04-8075P) | The Honorable Torrey Rush, Chairman, Richland County Council, P.O. Box 192, Columbia, SC 29202 | Richland County Courthouse, 1701 Main Street, Columbia, SC 29202 | Aug 10, 2015 | 450170
Texas:
Bexar (FEMA Docket No.: B-1705) | City of San Antonio (16-06-1449P) | The Honorable Ivy R. Taylor, Mayor, City of San Antonio, P.O. Box 839966, San Antonio, TX 78283 | Transportation and Capital Improvements Department, Storm Water Division, 1901 South Alamo Street, 2nd Floor, San Antonio, TX 78204 | May 18, 2017 | 480045
Collin (FEMA Docket No.: B-1705) | City of Frisco (16-06-3251P) | The Honorable Maher Maso, Mayor, City of Frisco, 6101 Frisco Square Boulevard, 3rd Floor, Frisco, TX 75034 | City Hall, 6101 Frisco Square Boulevard, 3rd Floor, Frisco, TX 75034 | May 22, 2017 | 480134
Collin (FEMA Docket No.: B-1705) | City of McKinney (16-06-3366P) | The Honorable Brian Loughmiller, Mayor, City of McKinney, P.O. Box 517, McKinney, TX 75070 | Engineering Department, 221 North Tennessee Street, McKinney, TX 75069 | May 8, 2017 | 480135
Collin (FEMA Docket No.: B-1705) | Unincorporated areas of Collin County (16-06-3366P) | The Honorable Keith Self, Collin County Judge, 2300 Bloomdale Road, Suite 4192, McKinney, TX 75071 | Collin County Engineering Department, 4690 Community Avenue, Suite 200, McKinney, TX 75071 | May 8, 2017 | 480130
Denton (FEMA Docket No.: B-1705) | Town of Argyle (16-06-3285P) | The Honorable Peggy Krueger, Mayor, Town of Argyle, P.O. Box 609, Argyle, TX 76226 | Planning and Zoning Division, 308 Denton Street, Argyle, TX 76226 | May 26, 2017 | 480775
Fort Bend (FEMA Docket No.: B-1705) | City of Missouri City (17-06-0015P) | The Honorable Allen Owen, Mayor, City of Missouri City, 1522 Texas Parkway, Missouri City, TX 77489 | Engineering Department, 1522 Texas Parkway, Missouri City, TX 77489 | May 17, 2017 | 480304
Fort Bend (FEMA Docket No.: B-1705) | Unincorporated areas of Fort Bend County (17-06-0015P) | The Honorable Robert Hebert, Fort Bend County Judge, 401 Jackson Street, Richmond, TX 77469 | Fort Bend County Engineering Department, 301 Jackson Street, 4th Floor, Richmond, TX 77469 | May 17, 2017 | 480228
Harris (FEMA Docket No.: B-1705) | City of Missouri City (16-06-2490P) | The Honorable Allen Owen, Mayor, City of Missouri City, 1522 Texas Parkway, Missouri City, TX 77489 | Engineering Department, 1522 Texas Parkway, Missouri City, TX 77489 | Jun 2, 2017 | 480304
Johnson and Tarrant (FEMA Docket No.: B-1705) | City of Burleson (17-06-0126P) | The Honorable Ken Shetter, Mayor, City of Burleson, 141 West Renfro Street, Burleson, TX 76028 | Engineering Services Department, 141 West Renfro Street, Burleson, TX 76028 | May 8, 2017 | 485459
Montgomery (FEMA Docket No.: B-1705) | City of Conroe (16-06-1009P) | The Honorable Toby Powell, Mayor, City of Conroe, P.O. Box 3066, Conroe, TX 77305 | Public Works Department, 300 West Davis Street, Conroe, TX 77301 | May 4, 2017 | 480484
Montgomery (FEMA Docket No.: B-1705) | City of Shenandoah (16-06-1009P) | The Honorable Ritch Wheeler, Mayor, City of Shenandoah, 29955 I-45 North, Shenandoah, TX 77381 | City Hall, 29955 I-45 North, Shenandoah, TX 77381 | May 4, 2017 | 481256
Montgomery (FEMA Docket No.: B-1705) | Unincorporated areas of Montgomery County (16-06-1009P) | The Honorable Craig Doyal, Montgomery County Judge, 501 North Thompson Street, Suite 401, Conroe, TX 77301 | Montgomery County Engineering Department, 501 North Thompson Street, Suite 103, Conroe, TX 77301 | May 4, 2017 | 480483
Tarrant (FEMA Docket No.: B-1705) | City of Fort Worth (17-06-0126P) | The Honorable Betsy Price, Mayor, City of Fort Worth, 1000 Throckmorton Street, Fort Worth, TX 76102 | Transportation and Public Works Department, 1000 Throckmorton Street, Fort Worth, TX 76102 | May 8, 2017 | 480596
Tom Green (FEMA Docket No.: B-1705) | City of San Angelo (17-06-0008P) | Mr. Daniel Valenzuela, Manager, City of San Angelo, 72 West College Avenue, San Angelo, TX 76903 | City Hall, 72 West College Avenue, San Angelo, TX 76903 | May 3, 2017 | 480623
Tom Green (FEMA Docket No.: B-1705) | Unincorporated areas of Tom Green County (17-06-0008P) | The Honorable Stephen C. Floyd, Tom Green County Judge, 122 West Beauregard Avenue, San Angelo, TX 76903 | Tom Green County Courthouse, 122 West Beauregard Avenue, San Angelo, TX 76903 | May 3, 2017 | 480622
Utah: Salt Lake (FEMA Docket No.: B-1705) | Town of Herriman (16-08-1375P) | The Honorable Carmen Freeman, Mayor, Town of Herriman, 13011 South Pioneer Street, Herriman, UT 84096 | City Hall, 13011 South Pioneer Street, Herriman, UT 84096 | May 4, 2017 | 490252
Wyoming:
Albany (FEMA Docket No.: B-1705) | City of Laramie (16-08-0896P) | Ms. Janine Jordan, Manager, City of Laramie, P.O. Box C, Laramie, WY 82073 | City Hall, 406 Ivinson Avenue, Laramie, WY 82073 | May 17, 2017 | 560002
Albany (FEMA Docket No.: B-1705) | Unincorporated areas of Albany County (16-08-0896P) | The Honorable Tim Sullivan, Chairman, Albany County Board of Commissioners, 525 East Grand Avenue, Suite 202, Laramie, WY 82070 | Albany County Planning Department, 1002 South 3rd Street, Laramie, WY 82070 | May 17, 2017 | 560001

[FR Doc. 2017-17760 Filed 8-21-17; 8:45 am]

BILLING CODE 9110-12-P